CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, CNCS is soliciting comments concerning its proposed renewal of the External Reviewer Application which is used by CNCS to recruit individuals to review grant applications. The information will be provided by individuals wishing to serve as external review participants for CNCS's grant review processes. The completion of this information collection is required to be considered as a potential reviewer for CNCS.

Copies of the information collection request can be obtained by contacting the office listed in the Addresses section of this Notice.

DATES: Written comments must be submitted to the individual and office listed in the ADDRESSES section by June 13, 2016.

ADDRESSES: You may submit comments, identified by the title of the information collection activity, by any of the following methods:

(1) By mail sent to: Corporation for National and Community Service, Office of Grants Policy and Operations, Attention: Vielka Garibaldi, Director, Room 3228, 250 E Street SW., Washington, DC 20525.

(2) By hand delivery or by courier to the CNCS mailroom on the 4th floor at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Vielka Garibaldi, 202-606-6886, or by email at PeerReviewers@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The External Reviewer Application is used by individuals who wish to serve as External Reviewers or External Panel Coordinators for CNCS when external reviewers are needed to review grant applications. The information collected will be used by CNCS to select review participants for each grant competition. The information is collected electronically using “Grants and Member Management” (GMM), CNCS's web-based system.

Current Action

CNCS seeks to renew the current information collection. The application and instructions have been updated in order to capture the required information in a more streamlined fashion within the GMM system. The information collection will otherwise be used in the same manner as the existing application. CNCS also seeks to continue using the current application until the revised application is approved by OMB. The current application is due to expire on September 30, 2016.

Type of Review: Renewal.

Agency: Corporation for National and Community Service.

Title: CNCS External Reviewer Application.

OMB Number: 3045-0090.

Agency Number: None.

Affected Public: Individuals interested in serving as External Reviewers and External Panel Coordinators for CNCS's grant reviews.

Total Respondents: 2,000.

Frequency: One time to complete.

Average Time per Response: Averages 30 minutes.

Estimated Total Burden Hours: 1,000 hours.

Total Burden Cost (capital/startup): None.

Total Burden Cost (operating/maintenance): None.

Comments submitted in response to this notice will be summarized and/or included in the request for Office of Management and Budget approval of the information collection request; they will also become a matter of public record.

Dated: April 8, 2016.
Vielka Garibaldi,
Director, Office of Grants Policy and Operations.

[FR Doc. 2016-08663 Filed 4-13-16; 8:45 am]

BILLING CODE 6050-28-P